DEPARTMENT OF AGRICULTURE

Natural Resources Conservation Service

Environmental Assessment; Midlands Creek, Papillion Creek Watershed, NE

AGENCY: Natural Resources Conservation Service, USDA.

ACTION: Notice of availability, Finding of No Significant Impact.

SUMMARY: The Natural Resources Conservation Service (NRCS) has prepared an Environmental Assessment in compliance with the National Environmental Policy Act (NEPA), as amended. Pursuant to the implementing regulations for NEPA (40 CFR parts 1500-1508); the USDA Departmental Policy for the NEPA (7 CFR part 1b); the Natural Resources Conservation Service Regulations (7 CFR part 650); and the Natural Resources Conservation Service policy (General Manual Title 190, Part 410); the Natural Resources Conservation Service gives notice that an environmental impact statement is not being prepared for the grade stabilization of Midlands Creek, Papillion Creek Watershed, Sarpy County Nebraska. The Environmental Assessment was developed in coordination with the Papio-Missouri River Natural Resources District for a federally assisted action authorized as a congressional earmark for a compacted earthen fill dam grade stabilization structure. Upon consideration of the affected environment, alternatives, environmental consequences, and comments and coordination with concerned public and agencies, the State Conservationist for NRCS, Nebraska found that based on the significance and context and intensity that the proposed action is not a major federal action significantly affecting the quality of the human environment. Thus, a Finding of No Significant Impact (FONSI) was made.

FOR FURTHER INFORMATION, CONTACT: Stephen K. Chick, State Conservationist, U.S. Department of Agriculture, Natural Resources Conservation Service, Federal Building, Room 152, 100 Centennial Mall North, Lincoln, Nebraska 68508-3866; telephone (402) 437-5300.

SUPPLEMENTARY INFORMATION: The sponsoring local organization (Papio-Missouri River Natural Resources District) concurs with this determination and agrees with carrying forward the proposed project. The objective of the sponsoring local organization is to install a project that would reduce flood damage to urban areas; state, county and city roads and bridges; and other properties. The proposed action is to utilize an earthen dam on Midlands Creek at the identified S-30 site to provide grade stabilization as identified by the allocation of a congressional earmark.

Information regarding this finding may be obtained at the contact information listed above. No administrative action on implementation of the proposed funding action will be taken until 30 days after the date of this publication in the Federal Register.

Stephen K. Chick,
State Conservationist.

[FR Doc. E6-3311 Filed 3-8-06; 8:45 am]

BILLING CODE 3410-16-P